DEPARTMENT OF ENERGY

Federal Energy Regulatory Commission

[Docket No. RD16-2-000]

Proposed Agency Information Collection

AGENCY: Federal Energy Regulatory Commission, DOE.

ACTION: Notice and request for comments.

SUMMARY: The Federal Energy Regulatory Commission (Commission) invites public comment in Docket No. RD16-2-000 on a proposed change to collections of information FERC-725P (OMB Control No. 1902-0269) and FERC-725P1 (OMB Control No. 1902-0280) that the Commission is submitting to the Office of Management and Budget (OMB) pursuant to the Paperwork Reduction Act of 1995. The Commission previously issued a Notice in the Federal Register (81 FR 230, January 5, 2016) requesting public comments. The Commission received no comments and is making this notation in the submittals to OMB.

DATES: Comments regarding the proposed information collections must be received on or before April 14, 2016.

ADDRESSES: Comments filed with OMB, identified by the OMB Control Nos. 1902-0269 (FERC-725P) and 1902-0280 (FERC-725P1), should be sent via email to the Office of Information and Regulatory Affairs at: oira_submission@omb.gov, Attention: Federal Energy Regulatory Commission Desk Officer. The Desk Officer may also be reached via telephone at 202-395-0710.

A copy of the comments should also be sent to the Commission, in Docket No. RD16-2-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Titles: FERC-725P (Mandatory Reliability Standards: Reliability Standard PRC-005-3) and FERC-725P1 (Mandatory Reliability Standards: PRC-005 Reliability Standard)

OMB Control Nos.: 1902-0269 (FERC-725P) and 1902-0280 (FERC-725P1)

Type of Request: Three-year extension of the FERC-725P1 information collection requirements with the stated changes to the current reporting and record retention requirements, and elimination of the requirements of FERC-725P.

Abstract: Reliability Standard PRC-005-6 (Protection System, Automatic Reclosing, and Sudden Pressure Relaying Maintenance) replaces or supplements requirements from previous versions of the PRC-005 Reliability Standard, which are approved under FERC-725P and FERC-725P1. The requirements and associated burden of Reliability Standard PRC-005-6 will be included in FERC-725P1.¹

¹ In the future, to consolidate reporting requirements associated with the PRC Standards, the Commission plans to transfer the burden associated with Reliability Standard PRC-005-6 to FERC-725G (OMB Control No. 1902-0252) and to remove it from FERC-725P1. Note that, if approved by OMB, the FERC-725P (a temporary collection number) will have a 0 burden and will be eliminated by this action and the changes in Docket No. RD16-2.

The Commission requires the information collected by the FERC-725P1 to implement the statutory provisions of section 215 of the Federal Power Act (FPA).² On August 8, 2005, Congress enacted into law the Electricity Modernization Act of 2005, which is Title XII, Subtitle A, of the Energy Policy Act of 2005 (EPAct 2005).³ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.⁴

² 16 U.S.C. 824o (2012).

³ Energy Policy Act of 2005, Public Law 109-58, Title XII, Subtitle A, 119 Stat. 594, 941 (codified at 16 U.S.C. 824o).

⁴ 16 U.S.C. 824o(e)(3).

On February 3, 2006, the Commission issued Order No. 672, implementing section 215 of the FPA.⁵ Pursuant to Order No. 672, the Commission certified one organization, North American Electric Reliability Corporation (NERC), as the ERO.⁶ The Reliability Standards developed by the ERO and approved by the Commission apply to users, owners, and operators of the Bulk-Power System as set forth in each Reliability Standard. On November 13, 2015, NERC filed a petition for Commission approval of proposed Reliability Standard PRC-005-6 (Protection System, Automatic Reclosing, and Sudden Pressure Relaying Maintenance). NERC also requested approval of the proposed implementation plan for PRC-005-6, and the retirement of previous versions of Reliability Standard PRC-005.

⁵ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁶ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

NERC explained in its petition that Reliability Standard PRC-005-6 represents an improvement upon the most recently-approved version of the standard, PRC-005-4.⁷ FERC approved the proposed Reliability Standard PRC-005-6 on December 18, 2015.⁸

⁷ As noted in NERC's petition, NERC filed a separate motion to delay implementation of the approved, but not yet effective, versions of the PRC-005 Reliability Standard in Docket Nos. RM14-8-000 (PRC-005-3), RD15-3-000 (PRC-005-3(i)), and RM15-9-000 (PRC-005-4) until after the Commission issues an order or rule regarding proposed PRC-005-6. NERC's motion was granted in a delegated letter order issued December 4, 2015. See North American Elec. Reliability Corp., Docket Nos. RM14-8-000 et al. (Dec. 4, 2015) (delegated letter order).

⁸ The Delegated Letter Order is available in FERC's eLibrary at http://elibrary.ferc.gov/idmws/common/opennat.asp?fileID=14076238.

Type of Respondents: Transmission Owners (TO), Generator Owners (GO), and Distribution Providers (DP).

Estimate of Annual Burden: ⁹ Estimates for the changes to burden and cost due to Docket No. RD16-2-000 follow.

⁹ The Commission defines “burden” as the total time, effort, or financial resources expended by persons to generate, maintain, retain, or disclose or provide information to or for a federal agency. For further information, refer to 5 CFR 1320.3.

Changes Made in RD16-2-000
Requirements in reliability standard | Number of respondents | Annual number of responses per respondent | Total number of responses | Average burden and cost per response | Total annual burden (hours) and cost | Total annual cost per respondent
| (1) | (2) | (1)*(2) = (3) | (4) | (3)*(4) = (5) | ($)
FERC-725P (Reduction due to Replacement of PRC-005-3) ¹⁰ ¹¹
One-time review of existing plant and substation sites to determine which ones fall under PRC-005-3 [reduction] | ¹² 937 | −1 | −937 | 2 hrs.; $146 | −1,874 hrs.; −$136,802 | −146
One-time review and adjustment of existing program [reduction] | ¹³ 288 | −1 | −288 | 8 hrs.; $584 | −2,304 hrs.; −$168,192 | −584
Total Net Decrease to FERC-725P |  |  | −1,225 |  | −4,178 hrs.; −$304,994 |
FERC-725P1
Replacement of PRC-005-4 14 15—One-time review of sudden pressure relay maintenance program and adjustment (Burden Reduction) | 1,287 | −1 | −1,287 | 8 hrs.; $522.72 | −10,296 hrs.; −$672,740.64 | −522.72
Implementation of PRC-005-6—One-time review of existing plant and substation sites to determine which ones fall under PRC-005-6 ¹⁶ (Burden Increase) | ¹⁷ 937 | 1 | 937 | 2 hrs.; $145 | 1,874 hrs.; $135,396.50 | 144.50
Implementation of PRC-005-6—One-time review and adjustment of existing program for reclosing relays and associated equipment ¹⁸ (Burden Increase) | 288 | 1 | 288 | 8.5 hrs.; $614 | 2,448 hrs.; $176,868 | 614
Implementation of PRC-005-6—One-time review and adjustment of existing program for sudden pressure relays ¹⁹ (Burden Increase) | 1,287 | 1 | 1,287 | 8 hrs.; $531.60 | 10,296 hrs.; $684,169.20 | 531.60
Total Net Increase to FERC-725P1 |  |  | +1,225 |  | 4,322 hrs.; $323,693.06 |
Total Net Change, due to RD16-2 |  |  | 0 |  | 144 hrs.; $18,699.06 |

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

¹⁰ The estimates for cost per response are derived using the following formula: Average Burden Hours per Response * $73 per Hour = Average Cost per Response. The hourly cost figure comes from the average of the salary plus benefits for a manager and an engineer (rounded to the nearest dollar). The figures are taken from the Bureau of Labor Statistics [BLS] at (http://bls.gov/oes/current/naics3_221000.htm).

¹¹ Implemented in Docket No. RM14-8.

¹² This figure reflects the generator owners and transmission owners identified in the NERC Compliance Registry as of May 28, 2014.

¹³ This figure is a subset of GOs and TOs, as discussed in Order 803 (Docket No. RM14-8), P 41.

¹⁴ Implemented in Docket No. RM15-9.

¹⁵ The estimates for cost per response are derived using the following formula: Average Burden Hours per Response * $65.34 per Hour = Average Cost per Response. The hourly cost figure comes from the average of the wages plus benefits for an engineer (rounded to the nearest dollar). The figures are based on information from the Bureau of Labor Statistics (at http://bls.gov/oes/current/naics3_221000.htm).

¹⁶ The average hourly cost (wages plus benefits) is estimated to be $72.25 (and is based on BLS May 2014 Data, updated 8/2015). It is based on the average of the hourly wages plus benefits of:

• Management (occupation code 11-0000, $78.04 per hour) and

• electrical engineer (occupation code 17-2071, $66.45 per hour).

¹⁷ This figure reflects the generator owners and transmission owners identified in the NERC Compliance Registry as of May 28, 2014.

¹⁸ The average hourly cost (wages plus benefits) is estimated to be $72.25 (and is based on BLS May 2014 Data, updated 8/2015). It is based on the average of the hourly wages plus benefits of:

• Management (occupation code 11-0000, $78.04 per hour) and

• electrical engineer (occupation code 17-2071, $66.45 per hour).

¹⁹ The average hourly cost (wages plus benefits) is estimated to be $66.45, based on BLS estimates for an electrical engineer.

Dated: March 9, 2016.
Nathaniel J. Davis, Sr.,
Deputy Secretary.

[FR Doc. 2016-05775 Filed 3-14-16; 8:45 am]

BILLING CODE 6717-01-P